DEPARTMENT OF HEALTH AND HUMAN SERVICES

Centers for Disease Control and Prevention

NIOSH List of Antineoplastic and Other Hazardous Drugs in Healthcare Settings 2010

AGENCY: National Institute for Occupational Safety and Health (NIOSH) of the Centers for Disease Control and Prevention (CDC), Department of Health and Human Services (HHS).

ACTION: Notice of Final Document.

SUMMARY: The National Institute for Occupational Safety and Health (NIOSH) of the Centers for Disease Control and Prevention (CDC) announces the publication of the following document entitled “NIOSH List of Antineoplastic and Other Hazardous Drugs in Healthcare Settings 2010.” The document can be found at http://www.cdc.gov/niosh/docs/2010-167/.

Background: The NIOSH Alert: Preventing Occupational Exposures to Antineoplastic and Other Hazardous Drugs in Health Care Settings was published in September 2004 (http://www.cdc.gov/niosh/docs/2004-165/). From that time until June 2007, approximately 60 new drugs have received FDA approval and approximately 60 drugs have received special warnings (usually black box warnings) based on reported adverse effects in patients. An additional 18 drugs were included from the updated NIH Hazardous Drug List. From this list of approximately 150 drugs, 62 drugs were determined to have one or more characteristic of a hazardous drug and published for comment in NIOSH Docket Number 105.

After expert panel review, public review and comment, input from stakeholders and review of the scientific literature NIOSH proposed a second, draft list of hazardous drugs that was published in NIOSH Docket 105A. The second, draft list identified 24 drugs that fit the NIOSH definition of hazardous drugs. The second draft list also proposed removing Bacillus Calmette-Guerin (BCG), based on additional comments received by NIOSH.

Following the second Federal Register Notice, BCG was reinstated to the list and a total of 21 new drugs were added to the 2004 list in Appendix A of the Alert.

This guidance document does not have the force and effect of law.

FOR FURTHER INFORMATION CONTACT: Barbara MacKenzie, NIOSH, Robert A. Taft Laboratories, 4676 Columbia Parkway, MS-C26, Cincinnati, OH 45226, Telephone (513) 533-8132, e-mail hazardousdrugs@cdc.gov.

Reference: NIOSH List of Antineoplastic and Other Hazardous Drugs in Healthcare Settings 2010. Web address for this document: http://www.cdc.gov/niosh/docs/2010-167/.

John Howard,
Director, National Institute for Occupational Safety and Health, Centers for Disease Control and Prevention.

[FR Doc. 2010-23239 Filed 9-16-10; 8:45 am]

BILLING CODE 4163-19-P